ENVIRONMENTAL PROTECTION AGENCY

40 CFR Parts 280 and 281

[EPA-HQ-UST-2011-0301; FRL-9631-6]

RIN 2050-AG46

Revising Underground Storage Tank Regulations—Revisions to Existing Requirements and New Requirements for Secondary Containment and Operator Training

AGENCY: Environmental Protection Agency (EPA).

ACTION: Proposed rule; extension of comment period.

SUMMARY: EPA is extending the public comment period for the proposed changes to the 1988 underground storage tank (UST) technical, financial responsibility, and state program approval regulations published in the Federal Register on November 18, 2011 (76 FR 71708) (FRL-9485-5). These changes establish federal requirements that are similar to key portions of the Energy Policy Act of 2005; they also update certain 1988 UST regulations. Proposed changes include: Adding secondary containment requirements for new and replaced tanks and piping; adding operator training requirements; adding periodic operation and maintenance requirements for UST systems; removing certain deferrals; adding new release prevention and detection technologies; updating codes of practice; making editorial and technical corrections; and updating state program approval requirements to incorporate these new changes. These changes will likely protect human health and the environment by increasing the number of prevented UST releases and quickly detecting them, if they occur. This document extends the comment period for 60 days, from February 16, 2012 until April 16, 2012.

DATES: Comments must be received on or before April 16, 2012.

ADDRESSES: Submit your comments, identified by Docket ID No. EPA-HQ-UST-2011-0301, by one of the following methods:

• www.regulations.gov: Follow the on-line instructions for submitting comments.

• Email: mcdermott.elizabeth@epa.gov.

• Mail: EPA Docket Center (EPA/DC), Docket ID No. EPA-HQ-OPA-2009-0880, Mail Code 2822T, 1200 Pennsylvania Ave. NW., Washington, DC 20460. In addition, please mail a copy of your comments on the information collection provisions to the Office of Information and Regulatory Affairs, Office of Management and Budget (OMB), Attn: Desk Officer for EPA, 725 17th St. NW., Washington, DC 20503.

• Hand Delivery: EPA Docket Center (EPA/DC), EPA West, Room 3334, 1301 Constitution Ave. NW., Washington DC 20460. Attention Docket ID No. EPA-HQ-UST-2011-0301. Such deliveries are only accepted during the Docket's normal hours of operation, and special arrangements should be made for deliveries of boxed information.

Instructions: Direct your comments to Docket ID No. EPA-HQ-UST-2011-0301. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the EPA Docket Center (EPA/DC) is (202) 566-0276.

FOR FURTHER INFORMATION CONTACT: Elizabeth McDermott, OSWER/OUST (5401P), Environmental Protection Agency, 1200 Pennsylvania Avenue NW., Washington, DC 20460; telephone number: 703-603-7175; email address: mcdermott.elizabeth@epa.gov.

SUPPLEMENTARY INFORMATION: This document extends the public comment period established in the Federal Register on November 18, 2011. In that document EPA proposed changes that establish federal requirements that are similar to key portions of the Energy Policy Act of 2005; they also update certain 1988 UST regulations. Several potential commenters requested an extension to the comment period. EPA is hereby extending the comment period, which was set to end on February 16, 2012, to April 16, 2012. To submit comments, please follow the detailed instructions as provided under ADDRESSES. If you have questions, consult the individual listed under FOR FURTHER INFORMATION CONTACT.

List of Subjects

40 CFR Part 280

Environmental protection, Administrative practice and procedures, Confidential business information, Groundwater, Hazardous materials, Petroleum, Reporting and recordkeeping requirements, Underground storage tanks, Water pollution control, Water supply.

40 CFR Part 281

Environmental protection, Administrative practice and procedures, Hazardous materials, Petroleum, State program approval, Underground storage tanks.

Dated: February 8, 2012.
Carolyn Hoskinson,
Director, Office of Underground Storage Tanks, Office of Solid Waste and Emergency Response.

[FR Doc. 2012-3589 Filed 2-14-12; 8:45 am]

BILLING CODE 6560-50-P